DEPARTMENT OF LABOR

Employment and Training Administration

[TA-W-59,838]

Sara Lee Intimates, Currently Known As Hanesbrands, Inc., Statesville, NC; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on August 17, 2006, applicable to workers of Sara Lee Intimates, a division of Sara Lee Branded Apparel, Statesville, North Carolina. The notice was published in the Federal Register on September 6, 2006 (71 FR 52583).

At the request of the State agency, the Department reviewed the certification for workers of the subject firm. The workers at the Statesville, North Carolina location produce women's intimate apparel.

New information shows that Sara Lee Intimates is currently known as Hanesbrands, Inc. In September 2006, Sara Lee Corporation spun-off its Branded Apparel business and created an independent company, Hanesbrands, Inc. Workers separated from employment at the subject firm had their wages reported under a separate unemployment insurance (UI) tax account for Hanesbrands, Inc.

Accordingly, the Department is amending the certification to properly reflect this matter.

The intent of the Department's certification is to include all workers of Sara Lee Intimates who were adversely affected by a shift in production to Honduras.

The amended notice applicable to TA-W-59,838 is hereby issued as follows:

“All workers of Sara Lee Intimates, currently known as Hanesbrands, Inc., Statesville, North Carolina, who became totally or partially separated from employment on or after August 1, 2005, through August 17, 2008, are eligible to apply for adjustment assistance under Section 223 of the Trade Act of 1974, and are also eligible to apply for alternative trade adjustment assistance under Section 246 of the Trade Act of 1974.”

Signed at Washington, DC, this 7th day of March 2007.
Linda G. Poole,
Certifying Officer, Division of Trade Adjustment Assistance.

[FR Doc. E7-4573 Filed 3-13-07; 8:45 am]

BILLING CODE 4510-FN-P